FEDERAL MARITIME COMMISSION

[Petition No. P9-03]

Petition of C.H. Robinson Worldwide, Inc. for Exemption Pursuant to Section 16 of the Shipping Act of 1984 to Permit Negotiation, Entry and Performance of Confidential Service Contracts; Notice of Filing

Notice is hereby given that C.H. Robinson Worldwide, Inc. (“Petitioner”) has petitioned, pursuant to Section 16 of the Shipping Act of 1984, 46 U.S.C. app. 1715, and 46 CFR 502.67, for an exemption from the Shipping Act, to permit it to negotiate, enter into and perform service contracts.

In order for the Commission to make a thorough evaluation of the Petition, interested persons are requested to submit views or arguments in reply to the petition no later than October 10, 2003. Replies shall consist of an original and 15 copies, be directed to the Secretary, Federal Maritime Commission, 800 North Capitol Street NW., Washington, DC 20573-0001, and be served on Petitioner's counsel Carlos Rodriguez, Esq., Rodriguez O'Donnell Ross, Fuerst Gonzalez & Williams, P.C., 1211 Connecticut Ave. NW., Suite 800 Washington, DC 20036. It is also requested that a copy of the reply be submitted in electronic form (WordPerfect, Word or ASCII) on diskette or emailed to Secretary@fmc.gov. The Petition will be posted on the Commission's Home page at http://www.fmc.gov/Docket%20Log/Docket%20Log%20Index.htm. All replies filed in response to the Petition will also be posted on the Commission's homepage at this location.¹ Copies of the Petition also may be obtained by sending a request to the Office of the Secretary, Room 1046, or by calling (202) 523-5725. Parties participating in this proceeding may elect to receive service of the Commission's issuances in this proceeding through email in lieu of service by U.S. mail. A party opting for electronic service shall advise the Office of the Secretary in writing and provide an e-mail address where service can be made. Such request should be directed to secretary@fmc.gov.

¹ Copies of replies to Petition Nos. P3-03, P5-03, P7-03, and P8-03 are also available on the Commission's homepage at the address listed above.

Bryant L. VanBrakle,
Secretary.

[FR Doc. 03-24184 Filed 9-22-03; 8:45 am]

BILLING CODE 6730-01-P